DEPARTMENT OF TRANSPORTATION

Federal Aviation Administration

14 CFR Part 97

[Docket No. 29907; Amdt. No. 1971]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATE: An effective date for each SIAP is specified in the amendatory provisions.

Incorporation by reference-approved by the Director of the Federal Register on December 31, 1980, and reapproved as of January 1, 1982.

ADDRESSES: Availability of matter incorporated by reference in the amendment is as follows:

For examination:

1. FAA Rules Docket, FAA Headquarters Building, 800 Independence Avenue, SW., Washington, DC 20591;

2. The FAA Regional Office of the region in which affected airport is located; or

3. The Flight Inspection Area Office which originated the SIAP.

For Purchase: Individual SIAP copies may be obtained from:

1. FAA Public Inquiry Center (APA-200), FAA Headquarters Building, 800 Independence Avenue, SW., Washington, DC 20591; or

2. The FAA Regional Office of the region in which the affected airport is located.

By Subscription: Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd, Oklahoma City, OK 73169 (Mail Address: P.O. Box 25082 Oklahoma City, OK 73125); telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notice to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, navigation (air).

Issued in Washington, DC on January 21, 2000.
L. Nicholas Lacey,
Director, Flight Standards Service.

Adoption of The Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS,MLS, MLS/DME, MLS/RNAV; § 97.31 RADAR SIAPs; § 97.33 RNAV SIAPs; and § 97.35 COPTER SIAPs, identified as follows:

. . . Effective Upon Publication

FDC date | State | City | Airport | FDC No. | SIAP
01/03/00 | MI | Pontiac | Oakland County Intl | 0/0069 | LOC BC Rwy 27L, Orig...corrects TL 00-03
01/05/00 | TX | College Station | Easterwood Field | 0/0132 | VOR/DME or GPS Rwy 28, Amdt 12A...
01/05/00 | TX | Harlingen | Valley Intl | 0/0125 | NDB or GPS Rwy 17R, Amdt 11...
01/05/00 | TX | Harlingen | Valley Intl | 0/0128 | ILS Rwy 17R, Amdt 11A...
01/05/00 | TX | Harlingen | Valley Intl | 0/0129 | LOC BC Rwy 35L, Amdt 12...
01/05/00 | TX | Harlingen | Valley Intl | 0/0130 | NDB or GPS Rwy 17L, Amdt 5...
01/05/00 | TX | Harlingen | Valley Intl | 0/0131 | VOR/DME or TACAN Rwy 31, Orig...
01/06/00 | AK | King Salmon | King Salmon | 0/0171 | LOC/DME BC Rwy 29, Amdt 1A...
01/06/00 | AR | Texarkana | Texarkana Regional—Webb Field | 0/0181 | LOC BC Rwy 4, Amdt 12...
01/06/00 | FL | Tampa | Vandenberg | 0/0183 | GPS Rwy 23, Orig-1A...
01/06/00 | FL | Tampa | Vandenberg | 0/0184 | GPS Rwy 18, Amdt 1A...
01/06/00 | MI | Lansing | Capital City | 0/0169 | VOR or GPS Rwy 6, Amdt 24...Replaces 01/0106
01/06/00 | OH | New Philadelphia | Harry Clever Field | 0/0164 | VOR or GPS-A, Orig-A...
01/06/00 | OH | New Philadelphia | Harry Clever Field | 0/0165 | VOR/DME or GPS-B, Amdt 2A...
01/06/00 | OH | New Philadelphia | Harry Clever Field | 0/0166 | GPS Rwy 14, Orig...
01/06/00 | TX | Waco | Waco Regional | 0/0162 | VOR/DME or GPS Rwy 32, Amdt 14...
01/07/00 | AK | King Salmon | King Salmon | 0/0197 | VOR/DME or TACAN Rwy 29, Amdt 8...
01/07/00 | MO | Butler | Butler Memorial | 0/0194 | GPS Rwy 18, Orig-A...
01/07/00 | MO | Butler | Butler Memorial | 0/0195 | VOR-A, Amdt 4...
01/07/00 | MO | St Louis | Lambert—St Louis Intl | 0/0193 | ILS Rwy 6, Orig-B...
01/07/00 | NH | Lebanon | Lebanon Muni | 0/0204 | VOR or GPS Rwy 25, Orig-A...
01/07/00 | NY | Westhampton Beach | The Francis S. Gabreski | 0/0222 | NDB or GPS Rwy 24, Amdt 3A...
01/07/00 | NY | Westhampton Beach | The Francis S. Gabreski | 0/0223 | ILS Rwy 24, Amdt 8B...
01/07/00 | OH | Dayton | Greene County—Lewis A. Jackson Regional | 0/0214 | NDB Rwy 25, Orig...
01/07/00 | OH | Dayton | Greene County—Lewis A. Jackson Regional | 0/0215 | GPS Rwy 7, Orig...
01/07/00 | OH | Portsmouth | Greater Portsmouth Regional | 0/0217 | GPS Rwy 36, Amdt 1A...
01/07/00 | OH | Portsmouth | Greater Portsmouth Regional | 0/0218 | VOR/DME or GPS—, Amdt 5...
01/07/00 | OK | Lawton | Lawton-Fort Sill Regional | 0/0201 | GPS Rwy 35, Orig...
01/07/00 | OK | Lawton | Lawton-Fort Sill Regional | 0/0202 | VOR Rwy 35, Amdt 20...
01/10/00 | AK | Homer | Homer | 0/0246 | LOC/DME Rwy 3, Amdt 9A...
01/10/00 | AK | Homer | Homer | 0/0247 | GPS Rwy 3, Orig-A...
01/10/00 | AK | Nome | Nome | 0/0248 | NDB/DME Rwy 2, Amdt 1...
01/10/00 | GA | Marietta | Cobb County—McCollum Field | 0/0258 | ILS Rwy 27, Orig-C...
01/10/00 | GA | Marietta | Cobb County—McCollum Field | 0/0260 | GPS Rwy 27, Orig-A...
01/10/00 | GA | Marietta | Cobb County—McCollum Field | 0/0261 | GPS Rwy 9, Orig...
01/10/00 | IA | Jefferson | Jefferson Muni | 0/0252 | GPS Rwy 32, Orig...Replaces 0/0095
01/10/00 | IA | Jefferson | Jefferson Muni | 0/0253 | GPS Rwy 14, Orig...Replaces 0/0096
01/10/00 | IN | Gary | Gary/Chicago | 0/0242 | ILS Rwy 30, Amdt 4...
01/10/00 | OH | Akron | Akron Fulton Intl | 0/0269 | NDB or GPS Rwy 25, Amdt 13...
01/10/00 | OH | Akron | Akron Fulton Intl | 0/0270 | LOC Rwy 25, Amdt 13...
01/10/00 | OH | Mansfield | Mansfield Lahm Muni | 0/0264 | NDB Rwy 32, Amdt 11A...
01/10/00 | OH | Mansfield | Mansfield Lahm Muni | 0/0265 | VOR/DME RNAV or GPS Rwy 23, Amdt 6...
01/10/00 | OH | Mansfield | Mansfield Lahm Muni | 0/0266 | ILS Rwy 32, Amdt 15A...
01/10/00 | OH | Mansfield | Mansfield Lahm Muni | 0/0267 | VOR or GPS Rwy 32, Amdt 6...
01/10/00 | OH | Mansfield | Mansfield Lahm Muni | 0/0268 | VOR or GPS Rwy 14, Amdt 13...
01/10/00 | OH | Portsmouth | Greater Portsmouth Regional | 0/0244 | VOR/DME RNAV or GPS Rwy 18, Amdt 6A...
01/10/00 | OK | Lawton | Lawton-Fort Sill Regional | 0/0240 | RADAR-1, Amdt 4...
01/11/00 | MO | Springfield | Springfield-Branson Regional | 0/0288 | VOR or Tacan Rwy 20, Amdt 18...
01/11/00 | TX | Brownsville | Brownsville/South Parde Island Intl | 0/0300 | ILS Rwy 13R, Amdt 11A...
01/11/00 | TX | Brownsville | Brownsville/South Parde Island Intl | 0/0301 | LOC BC Rwy 31L, Amdt 11...
01/12/00 | AK | Barrow | Wiley Post-Will Rogers Memorial | 0/0345 | GPS Rwy 24, Orig...
01/12/00 | MN | Thief River Falls | Thief River Falls Regional | 0/0325 | VOR/DME Rwy 31, Amdt 3A...
01/12/00 | OH | Cincinnati | Cincinnati Muni—Lunken Field | 0/0326 | NDB or GPS Rwy 25, Amdt 8...
01/12/00 | OH | Columbus | Rickenbacker Intl | 0/0343 | ILS Rwy 23L, Orig-A...
01/12/00 | OH | Waverly | Pike County | 0/0335 | GPS Rwy 25, Orig...
01/12/00 | OH | Waverly | Pike County | 0/0336 | GPS Rwy 7, Orig...
01/12/00 | OK | Guymon | Guymon Muni | 0/0338 | GPS Rwy 36, Orig...
01/12/00 | TX | Brownsville | Brownsville/South Parde Island Intl | 0/0319 | NDB or GPS Rwy 13R, Amdt 13...
01/13/00 | AL | Tuscaloosa | Tuscaloosa Muni | 0/0363 | GPS Rwy 22 Orig...
01/13/00 | AL | Tuscaloosa | Tuscaloosa Muni | 0/0364 | GPS Rwy 4 Orig-A...
01/13/00 | OK | Guymon | Guymon Muni | 0/0355 | NDB Rwy 18, Amdt 5...
01/14/00 | AK | Deadhorse | Deadhorse | 0/0387 | VOR/DME or Tacan Rwy 22, Amdt 2...
01/14/00 | AK | Deadhorse | Deadhorse | 0/0388 | LOC/DME BC Rwy 22, Amdt 8...
01/14/00 | AK | Sitka | Sitka Rocky Gutierrez | 0/0375 | LDA/DME Rwy 11, Amdt 13...
01/14/00 | AK | Talkeetna | Talkeetna | 0/0400 | VOR/DME Rwy 36, Amdt 1A...
01/14/00 | AK | Talkeetna | Talkeetna | 0/0401 | GPS Rwy 36, Orig...
01/14/00 | AK | Talkeetna | Talkeetna | 0/0404 | NDB Rwy 36, Amdt 1A...
01/14/00 | AK | Talkeetna | Talkeetna | 0/0405 | VOR-A Amdt 9A...
01/14/00 | IN | South Bend | Michiana Regional Transportation Center | 0/0402 | ILS Rwy 27L, Amdt 34A...
01/14/00 | IN | South Bend | Michiana Regional Transportation Center | 0/0403 | ILS Rwy 9R, Amdt 8A...
01/14/00 | IN | South Bend | Michiana Regional Transportation Center | 0/0406 | NDB or GPS Rwy 27L, Amdt 28A...
01/14/00 | PA | Philadelphia | Northeast Philadelphia | 0/0376 | VOR or GPS Rwy 24, Amdt 18...
01/18/00 | MN | Fairmont | Fairmont Muni | 0/0444 | VOR/DME Rwy 31, Amdt 1A...
01/18/00 | MN | Fairmont | Fairmont Muni | 0/0445 | VOR/DME Rwy 31, Amdt 1A...
01/18/00 | OH | Lima | Lima Allen County | 0/0441 | NDB or GPS Rwy 9, Amdt 2...
01/18/00 | OH | Lima | Lima Allen County | 0/0442 | VOR or GPS Rwy 27, Amdt 14...
01/18/00 | OH | Lima | Lima Allen County | 0/0443 | ILS Rwy 27, Amdt 2A...
01/18/00 | TX | Brenham | Brenham Muni | 0/0436 | VOR/DME Rwy 16, Amdt 1A...
01/18/00 | TX | Brenham | Brenham Muni | 0/0438 | GPS Rwy 34, Orig...
01/18/00 | TX | Brenham | Brenham Muni | 0/0439 | NDB Rwy 16, Amdt 5A...
01/18/00 | TX | Brownwood | Brownwood Regional | 0/0447 | LOC Rwy 17, Amdt 4...
01/18/00 | TX | Brownwood | Brownwood Regional | 0/0448 | VOR or GPS Rwy 17, Amdt 11...
01/18/00 | TX | Brownwood | Brownwood Regional | 0/0449 | VOR/DME or GPS Rwy 35, Amdt 1A...
01/18/00 | WI | Appleton | Outagamie County Regional | 0/0459 | VOR/DME or GPS Rwy 21, Orig-A...

[FR Doc. 00-2249 Filed 2-1-00; 8:45 am]

BILLING CODE 4910-13-M